DEPARTMENT OF ENERGY

Federal Energy Regulatory Commission

Combined Notice of Filings

Take notice that the Commission has received the following Natural Gas Pipeline Rate and Refund Report filings:

Filings Instituting Proceedings

Docket Numbers: RP19-1109-000.

Applicants: GenOn Wholesale Generation, LP, Entergy Mississippi, LLC.

Description: Joint Petition for Limited Waivers of Capacity Release Regulations and Policies, et al. of GenOn Wholesale Generation, LP, et al. under RP19-1109.

Filed Date: 4/3/19.

Accession Number: 20190403-5112.

Comments Due: 5 p.m. ET 4/15/19.

Docket Numbers: RP19-1073-001.

Applicants: Gulf Crossing Pipeline Company LLC.

Description: Tariff Amendment: Amendment to Docket No. RP19-1073-000 to be effective 4/1/2019.

Filed Date: 4/5/19.

Accession Number: 20190405-5177.

Comments Due: 5 p.m. ET 4/17/19.

Docket Numbers: RP19-1105-001.

Applicants: Texas Gas Transmission, LLC.

Description: Tariff Amendment: Amendment to Docket No. RP19-1105-000 to be effective 4/1/2019.

Filed Date: 4/8/19.

Accession Number: 20190408-5031.

Comments Due: 5 p.m. ET 4/22/19.

Docket Numbers: RP19-1112-000.

Applicants: NEXUS Gas Transmission, LLC.

Description: § 4(d) Rate Filing: Negotiated Rates—April 2019 Cleanup Filing to be effective 5/8/2019.

Filed Date: 4/8/19.

Accession Number: 20190408-5003.

Comments Due: 5 p.m. ET 4/22/19.

Docket Numbers: RP19-1113-000.

Applicants: Guardian Pipeline, L.L.C.

Description: § 4(d) Rate Filing: Update Non-Conforming and Negotiated Rate Agreements—April 2019 to be effective 4/8/2019.

Filed Date: 4/8/19

Accession Number: 20190408-5016.

Comments Due: 5 p.m. ET 4/22/19.

Docket Numbers: RP19-1114-000.

Applicants: Midwestern Gas Transmission Company.

Description: § 4(d) Rate Filing: Update Negotiated Rate Agreements—April 2019 to be effective 4/8/2019.

Filed Date: 4/8/19.

Accession Number: 20190408-5017.

Comments Due: 5 p.m. ET 4/22/19.

Docket Numbers: RP19-1115-000.

Applicants: ANR Pipeline Company.

Description: Compliance filing Request for Waiver—Gulf Coast Project.

Filed Date: 4/8/19.

Accession Number: 20190408-5185.

Comments Due: 5 p.m. ET 4/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2019.
Nathaniel J. Davis, Sr.,
Deputy Secretary.

[FR Doc. 2019-07402 Filed 4-12-19; 8:45 am]

BILLING CODE 6717-01-P